GENERAL SERVICES ADMINISTRATION

41 CFR Chapter 302

[FTR Case 2003-302; FTR Amendment 2003-01]

RIN 3090-AH78

Federal Travel Regulation; Relocation Income Tax (RIT) Allowance Tax Tables (2003 Update)

AGENCY: Office of Governmentwide Policy, General Services Administration (GSA).

ACTION: Final rule.

SUMMARY: The Federal, State, and Puerto Rico tax tables for calculating the relocation income tax (RIT) allowance must be updated yearly to reflect changes in Federal, State, and Puerto Rico income tax brackets and rates. The Federal, State, and Puerto Rico tax tables contained in this rule are for calculating the 2003 RIT allowance to be paid to relocating Federal employees.

DATES: This final rule is effective January 1, 2003, and applies for RIT allowance payments made on or after January 1, 2003.

FOR FURTHER INFORMATION CONTACT: The Regulatory Secretariat, Room 4035, GS Building, Washington, DC, 20405, (202) 208-7312, for information pertaining to status or publication schedules. For clarification of content, contact Mr. Calvin L. Pittman, Office of Governmentwide Policy, Travel Management Policy, at (202) 501-1538. Please cite FTR case 2003-302, FTR Amendment 2003-01.

SUPPLEMENTARY INFORMATION:

A. Background

Section 5724b of title 5, United States Code, provides for reimbursement of substantially all Federal, State, and local income taxes incurred by a transferred Federal employee on taxable moving expense reimbursements. Policies and procedures for the calculation and payment of a RIT allowance are contained in the Federal Travel Regulation (41 CFR part 302-17). The Federal, State, and Puerto Rico tax tables for calculating RIT allowance payments are updated yearly to reflect changes in Federal, State, and Puerto Rico income tax brackets and rates.

B. Executive Order 12866

This is not a significant regulatory action and, therefore, was not subject to review under section 6(b) of Executive Order 12866, Regulatory Planning and Review, dated September 30, 1993. This rule is not a major rule under 5 U.S.C. 804.

C. Regulatory Flexibility Act

This final rule is not required to be published in the Federal Register for notice and comment; therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Chapter 302

Government employees, Income taxes, Relocation allowances and entitlements, Transfers, Travel and transportation expenses.

Dated: February 6, 2003.
Stephen A. Perry,
Administrator of General Services.

For the reasons set forth in the preamble, under 5 U.S.C. 5701-5709, GSA amends 41 CFR part 302-17 as set forth below:

CHAPTER 302-17—RELOCATION INCOME TAX (RIT) ALLOWANCE

1. The authority citation for 41 CFR part 302-17 continues to read as follows:

Authority: 5 U.S.C. 5738; 20 U.S.C. 905(a); E.O. 11609, 36 FR 13747, 3 CFR, 1971-1975 Comp., p. 586.

2. Revise Appendixes A, B, C, and D to part 302-17 to read as follows:

Appendix A to Part 302-17—Federal Tax Tables for RIT Allowance

Federal Marginal Tax Rates by Earned Income Level and Filing Status—Tax Year 2002

The following table is to be used to determine the Federal marginal tax rate for Year 1 for computation of the RIT allowance as prescribed in § 302-17.8(e)(1). This table is to be used for employees whose Year 1 occurred during calendar year 2002.

Marginal tax rate: Percent | Single taxpayer: Over | Single taxpayer: But not over | Heads of household: Over | Heads of household: But not over | Married filing jointly/qualifying widows & widowers: Over | Married filing jointly/qualifying widows & widowers: But not over | Married filing separately: Over | Married filing separately: But not over
10 | $8,137 | $14,130 | $14,743 | $24,811 | $20,219 | $31,833 | $11,770 | $16,693
15 | 14,130 | 37,040 | 24,811 | 53,556 | 31,833 | 67,914 | 16,693 | 33,839
27 | 37,040 | 80,140 | 53,556 | 118,624 | 67,914 | 139,528 | 33,839 | 69,420
30 | 80,140 | 158,281 | 118,624 | 184,826 | 139,528 | 201,236 | 69,420 | 105,672
35 | 158,281 | 326,339 | 184,826 | 337,037 | 201,236 | 335,297 | 105,672 | 178,317
38.6 | 326,339 |  | 337,037 |  | 335,297 |  | 178,317 |

Appendix B to Part 302-17—State Tax Tables For RIT Allowance

State Marginal Tax Rates by Earned Income Level—Tax Year 2002

The following table is to be used to determine the State marginal tax rates for calculation of the RIT allowance as prescribed in § 302-17.8(e)(2). This table is to be used for employees who received covered taxable reimbursements during calendar year 2002.

Marginal Tax Rates (Stated in Percents) for the Earned Income Amounts Specified in Each Column ¹, ²
State (or district) | $20,000-$24,999 | $25,000-$49,999 | $50,000-$74,999 | $75,000 & over
Alabama | 5 | 5 | 5 | 5
Alaska | 0 | 0 | 0 | 0
Arizona | 2.87 | 3.2 | 3.74 | 5.04
Arkansas | 4.5 | 7 | 7 | 7
If single status ³ | 6 | 7 | 7 | 7
California | 4 | 6 | 8 | 9.3
If single status ³ | 6 | 8 | 9.3 | 9.3
Colorado | 4.63 | 4.63 | 4.63 | 4.63
Connecticut | 4.5 | 4.5 | 4.5 | 4.5
Delaware | 5.2 | 5.55 | 5.95 | 5.95
District of Columbia | 7 | 9 | 9 | 9
Florida | 0 | 0 | 0 | 0
Georgia | 6 | 6 | 6 | 6
Hawaii | 6.4 | 7.6 | 8.25 | 8.25
If single status ³ | 7.6 | 8.25 | 8.25 | 8.25
Idaho | 7.4 | 7.8 | 7.8 | 7.8
Illinois | 3 | 3 | 3 | 3
Indiana | 3.4 | 3.4 | 3.4 | 3.4
Iowa | 6.48 | 7.92 | 8.98 | 8.98
If single status ³ | 6.8 | 7.92 | 8.98 | 8.98
Kansas | 3.5 | 6.25 | 6.45 | 6.45
If single status ³ | 6.25 | 6.45 | 6.45 | 6.45
Kentucky | 6 | 6 | 6 | 6
Louisiana | 2 | 4 | 4 | 6
If single status ³ | 4 | 4 | 6 | 6
Maine | 4.5 | 7 | 8.5 | 8.5
If single status ³ | 7 | 8.5 | 8.5 | 8.5
Maryland | 4.75 | 4.75 | 4.75 | 4.75
Massachusetts | 5.3 | 5.3 | 5.3 | 5.3
Michigan | 4.1 | 4.1 | 4.1 | 4.1
Minnesota | 5.35 | 7.05 | 7.05 | 7.85
If single status ³ | 7.05 | 7.05 | 7.85 | 7.85
Mississippi | 5 | 5 | 5 | 5
Missouri | 6 | 6 | 6 | 6
Montana | 8 | 9 | 10 | 11
Nebraska | 3.49 | 5.01 | 6.68 | 6.68
If single status ³ | 5.01 | 6.68 | 6.68 | 6.68
Nevada | 0 | 0 | 0 | 0
New Hampshire | 0 | 0 | 0 | 0
New Jersey | 1.4 | 1.75 | 2.45 | 6.37
If single status ³ | 1.4 | 3.5 | 5.525 | 6.37
New Mexico | 3.2 | 6 | 7.1 | 8.2
If single status ³ | 6 | 7.1 | 7.9 | 8.2
New York | 4.5 | 5.9 | 6.85 | 6.85
If single status ³ | 5.25 | 6.85 | 6.85 | 6.85
North Carolina | 6 | 7 | 7 | 7.75
North Dakota | 2.1 | 3.92 | 4.34 | 5.04
If single status ³ | 2.1 | 3.92 | 5.04 | 5.04
Ohio | 3.715 | 4.457 | 5.201 | 6.9
Oklahoma | 9 | 10 | 10 | 10
If single status ³ | 10 | 10 | 10 | 10
Oregon | 9 | 9 | 9 | 9
Pennsylvania | 2.8 | 2.8 | 2.8 | 2.8
Rhode Island ⁴ | 25 | 25 | 25 | 25
South Carolina | 7 | 7 | 7 | 7
South Dakota | 0 | 0 | 0 | 0
Tennessee | 0 | 0 | 0 | 0
Texas | 0 | 0 | 0 | 0
Utah | 7 | 7 | 7 | 7
Vermont ⁵ | 24 | 24 | 24 | 24
Virginia | 5.75 | 5.75 | 5.75 | 5.75
Washington | 0 | 0 | 0 | 0
West Virginia | 4 | 4.5 | 6 | 6.5
Wisconsin | 6.15 | 6.5 | 6.5 | 6.75
Wyoming | 0 | 0 | 0 | 0
¹ Earned income amounts that fall between the income brackets shown in this table (e.g., $24,999.45, $49,999.75) should be rounded to the nearest dollar to determine the marginal tax rate to be used in calculating the RIT allowance.
² If the earned income amount is less than the lowest income bracket shown in this table, the employing agency shall establish an appropriate marginal tax rate as provided in § 302-17.8(e)(2)(ii).
³ This rate applies only to those individuals certifying that they will file under a single status within the States where they will pay income taxes. All other taxpayers, regardless of filing status, will use the other rate shown.
⁴ The income tax rate for Rhode Island is 25 percent of Federal income tax liability for all employees. Rates shown as a percent of Federal income tax liability must be converted to a percent of income as provided in § 302-17.8(e)(2)(iii).
⁵ The income tax rate for Vermont is 24 percent of Federal income tax liability for all employees. Rates shown as a percent of Federal income tax liability must be converted to a percent of income as provided in § 302-17.8(e)(2)(iii).

Appendix C to Part 302-17—Federal Tax Tables for RIT Allowance—Year 2

Federal Marginal Tax Rates by Earned Income Level and Filing Status—Tax Year 2003

The following table is to be used to determine the Federal marginal tax rate for Year 2 for computation of the RIT allowance as prescribed in § 302-17.8(e)(1). This table is to be used for employees whose Year 1 occurred during calendar years 1993, 1994, 1995, 1996, 1997, 1998, 1999, 2001, or 2002.

Marginal tax rate: Percent | Single taxpayer: Over | Single taxpayer: But not over | Heads of household: Over | Heads of household: But not over | Married filing jointly/qualifying widows & widowers: Over | Married filing jointly/qualifying widows & widowers: But not over | Married filing separately: Over | Married filing separately: But not over
10 | $8,274 | $14,314 | $15,005 | $25,136 | $20,977 | $32,559 | $10,958 | $16,536
15 | 14,314 | 37,771 | 25,136 | 54,712 | 32,559 | 69,722 | 16,536 | 34,507
27 | 37,771 | 81,890 | 54,712 | 122,788 | 69,722 | 142,842 | 34,507 | 70,442
30 | 81,890 | 162,802 | 122,788 | 193,703 | 142,842 | 206,675 | 70,442 | 107,631
35 | 162,802 | 334,763 | 193,703 | 350,138 | 206,675 | 343,919 | 107,631 | 181,753
38.6 | 334,763 |  | 350,138 |  | 343,919 |  | 181,753 |

Appendix D to Part 302-17—Puerto Rico Tax Tables for RIT Allowance

Puerto Rico Marginal Tax Rates by Earned Income Level—Tax Year 2002

The following table is to be used to determine the Puerto Rico marginal tax rate for computation of the RIT allowance as prescribed in § 302-17.8(e)(4)(i).

Marginal tax rate: Percent | Single filing status: Over | Single filing status: But not over | Any other filing status: Over | Any other filing status: But not over
10 |  |  |  | $25,000
15 |  | $25,000 |  |
28 | $25,000 | 50,000 | $25,000 | 50,000
33 | 50,000 |  | $50,000 |

[FR Doc. 03-3882 Filed 2-18-03; 8:45 am]

BILLING CODE 6820-24-P